DEPARTMENT OF TRANSPORTATION

Federal Motor Carrier Safety Administration

49 CFR Part 390

Drivers of CMVs: Restricting the Use of Cellular Phones

AGENCY: Federal Motor Carrier Safety Administration (FMCSA), DOT.

ACTION: Final rule; correction.

SUMMARY: FMCSA is correcting a Final Rule that appeared in the Federal Register on December 2, 2011 (76 FR 75470), which restricted the use of hand-held mobile telephones by drivers of commercial motor vehicles. That rule was jointly issued by FMCSA and Pipeline and Hazardous Materials Safety Administration (PHMSA), but this correction only affects an FMCSA regulation.

DATES: Effective January 3, 2012.

FOR FURTHER INFORMATION CONTACT: Mr. Brian Routhier, Transportation Specialist, Federal Motor Carrier Safety Administration, Vehicle and Roadside Operation Division, at (202) 366-4325 or FMCSA_MCPSV@dot.gov.

SUPPLEMENTARY INFORMATION: For FMCSA and PHMSA's Final Rule published on December 2, 2011 (76 FR 75470), the following correction is made:

§ 390.3 [Corrected]

On page 75487, in § 390.3, paragraph (f)(1), correct “(g)(2)” to “(f)(2)”.

Issued on: December 21, 2011.
Larry Minor,
Associate Administrator for Policy, Federal Motor Carrier Safety Administration.

[FR Doc. 2011-33198 Filed 12-29-11; 8:45 a.m.]

BILLING CODE 4910-EX-P